NUCLEAR REGULATORY COMMISSION

[NRC-2009-0467]

Office of New Reactors; Final Interim Staff Guidance on Post-Combined License Commitments

AGENCY: Nuclear Regulatory Commission (NRC).

ACTION: Notice of availability.

SUMMARY: The NRC is issuing its Final Interim Staff Guidance (ISG) ESP/DC/COL-ISG-015 (Agencywide Documents Access and Management System (ADAMS) Accession No. ML093561416). This ISG supplements the guidance provided to the NRC staff in Section 1.0, “Introduction and Interfaces,” of NUREG-0800, “Standard Review Plan for the Review of Safety Analysis Reports for Nuclear Power Plants,” concerning the review of applications to support early site permit (ESP), design certification (DC) and combined license (COL) applications. In addition, this ISG supplements the guidance provided in Section C.III.4 of Regulatory Guide (RG) 1.206, “Regulatory Guide for Combined License Applications for Nuclear Power Plants,” June 2007.

The NRC staff issues ISGs to facilitate timely implementation of the current staff guidance and to facilitate activities associated with review of applications for ESPs, DCs, and COLs by the Office of New Reactors. The NRC staff will also incorporate the approved ISGs into the next revision to the review guidance documents for new reactor applications.

Disposition: On October 27, 2009, the NRC staff issued the proposed ISG, ESP/DC/COL-ISG-015 “Post-Combined License Commitments,” (ADAMS Accession No. ML091671355) to solicit public and industry comment. The NRC staff received comments (ADAMS Accession No. ML093430227) on the proposed guidance on November 24, 2009. These comments were further discussed in a public meeting held by the NRC on December 17, 2009. This final issuance incorporates changes from the majority of the comments and the discussions at the public meeting. A discussion and slide presentation on ESP/DC/COL-ISG-015 held during the public meeting on December 17, 2009, document the NRC's responses to these comments (see ADAMS Accession No. ML093520068).

ADDRESSES: The NRC maintains ADAMS, which provides text and image files of NRC's public documents. These documents may be accessed through the NRC's Public Electronic Reading Room on the Internet at http://www.nrc.gov/reading-rm/adams.html. Persons who do not have access to ADAMS, or who encounter problems in accessing the documents located in ADAMS, should contact the NRC Public Document Room reference staff at 1-800-397-4209, 301-415-4737, or by e-mail at pdr.resource@nrc.gov.

FOR FURTHER INFORMATION CONTACT: Mr. William F. Burton, Chief, Rulemaking and Guidance Development Branch, Division of New Reactor Licensing, Office of the New Reactors, U.S. Nuclear Regulatory Commission, Washington, DC 20555-0001; telephone at 301-415-6332 or e-mail at william.burton@nrc.gov.

SUPPLEMENTARY INFORMATION: The agency posts its issued staff guidance in the agency external web page (http://www.nrc.gov/reading-rm/doc-collections/isg/).

Dated at Rockville, Maryland, this 21st day of January 2010.
For the Nuclear Regulatory Commission.
David B. Matthews,
Director, Division of New Reactor Licensing, Office of New Reactors.

[FR Doc. 2010-2137 Filed 2-1-10; 8:45 am]

BILLING CODE 7590-01-P